FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than September 23, 2015.

A. Federal Reserve Bank of Cleveland (Nadine Wallman, Vice President) 1455 East Sixth Street, Cleveland, Ohio 44101-2566:

1. Ann Ferneau Brown, individually, and as a member of the Brown Family Group, which consists of Ann Ferneau Brown; The Russell E. Brown Trust; Ann Ferneau Brown Trust, all of Blanchester, Ohio; David E. Brown; Mark E. Brown, both of Loveland, Ohio; and Stephanie A. Hearn, Liberty Township, Ohio; to retain voting shares of First Blanchester Bancshares, Inc., and thereby indirectly retain voting shares of The First National Bank of Blanchester, both in Blanchester, Ohio.

B. Federal Reserve Bank of Atlanta (Chapelle Davis, Assistant Vice President) 1000 Peachtree Street, NE., Atlanta, Georgia 30309:

1. Gaylon M. Lawrence, Jr., Memphis, Tennessee; to acquire voting shares of F&M Financial Corporation, and thereby indirectly acquire voting shares of F&M Bank, both in Clarksville, Tennessee.

Board of Governors of the Federal Reserve System, September 3, 2015.
Michael J. Lewandowski,
Associate Secretary of the Board.

[FR Doc. 2015-22637 Filed 9-8-15; 8:45 am]

BILLING CODE 6210-01-P